DEPARTMENT OF TRANSPORTATION

Federal Highway Administration

Environmental Impact Statement: Summit County, Utah

AGENCY: Federal Highway Administration (FHWA), Department of Transportation (USDOT), Utah Department of Transportation (UDOT).

ACTION: Notice of intent to prepare an Environmental Impact Statement (EIS).

SUMMARY: The FHWA, on behalf of the Utah Department of Transportation (UDOT), is issuing this Notice of Intent (NOI) to solicit comment and advise the public, agencies, and stakeholders that an EIS will be prepared for transportation improvements in the Kimball Junction area which includes the I-80 and SR-224 interchange and SR-224 through the two at-grade intersections to the south of I-80 (Ute Boulevard and Olympic Parkway) in Summit County, Utah. Persons and agencies who may be interested in or affected by the proposed project are encouraged to comment on the information in this NOI and the NOI Supplemental Information document. All comments received in response to this NOI will be considered, and any information presented herein, including the draft purpose and need, preliminary alternatives, and identified impacts, may be revised in consideration of the comments.

DATES: Comments on the NOI must be received on or before January 27, 2023.

ADDRESSES: This NOI is available in the docket referenced above at www.regulations.gov and on the project website (kimballjunctioneis.udot.utah.gov). Interested parties are invited to submit comments by any of the following methods:

Website: For access to the documents, go to the Federal eRulemaking Portal located at www.regulations.gov or the project website (kimballjunctioneis.udot.utah.gov). Follow the online instructions for submitting comments.

Mailing address or for hand delivery or courier: UDOT Environmental Services Division, 4501 South 2700 West, P.O. Box 148450, Salt Lake City, Utah 84114-8450.

Email address: kimballjunctioneis@utah.gov.

All submissions should include the agency name and the docket number that appears in the heading of this Notice. All comments received will be posted without change to www.regulations.gov or kimballjunctioneis.udot.utah.gov.

The Draft EIS will include a summary of the comments received.

FOR FURTHER INFORMATION CONTACT: Carissa Watanabe, Environmental Program Manager, UDOT Environmental Services Division, 4501 South 2700 West, P.O. Box 148450, Salt Lake City, Utah 84114-8450; telephone: (503) 939-3798; email: cwatanabe@utah.gov. Grant Farnsworth, PE, Kimball Junction EIS Project Manager, UDOT Region Two, 2010 South 2760 West, Salt Lake City, UT 84104; telephone: (801) 663-9985 email: gfarnsworth@utah.gov.

Persons interested in receiving the project information can also use the project email address referenced above to be added to the project mailing list.

SUPPLEMENTARY INFORMATION: The environmental review, consultation, and other actions required by applicable federal environmental laws for this project are being or have been carried out by UDOT pursuant to 23 U.S.C. 327 and a Memorandum of Understanding dated May 26, 2022 and executed by FHWA and UDOT. UDOT, as the assigned National Environmental Policy Act (NEPA) agency, will prepare an EIS to evaluate transportation solutions in the Kimball Junction area which includes the Interstate 80 (I-80) and State Route (SR) 224 interchange and SR-224 through the two at-grade intersections to the south (Ute Boulevard and Olympic Parkway). The proposed project study area extends on I-80 from the Jeremy Ranch interchange (I-80 milepost 142) to the US-40 interchange (I-80 milepost 147). The EIS will be conducted in accordance with the requirements of NEPA, as amended (42 United States Code [U.S.C.] Section 4321, et seq.), 23 U.S.C. 139, Council on Environmental Quality (CEQ) regulations implementing NEPA (40 CFR parts 1500-1508), FHWA regulations implementing NEPA (23 CFR 771.101- 771.139), and all applicable federal, state, and local governmental laws and regulations.

In 2021, UDOT, in partnership with Summit County, published the Kimball Junction and SR-224 Area Plan (Area Plan) that was prepared to identify and evaluate future transportation improvements at the interchange of I-80 and SR-224 and through the two at-grade intersections on SR-224 (Ute Boulevard and Olympic Parkway) in Summit County, Utah. The Area Plan was conducted using UDOT's Solutions Development process which is a local planning process that seeks to capture the unique context of an area or corridor and develop a set of solutions to meet its transportation needs. The Area Plan evaluated multimodal improvements to address congestion, mobility, safety, access, and travel time reliability at the Kimball Junction interchange and on SR-224 in the Kimball Junction area.

Transportation problems as well as opportunities to solve the problems were established in the study area via input from study partners and the public. Other criteria were developed to balance transportation and environmental goals and objectives. Further input from the study partners and the public was incorporated to develop the goals. The problems and opportunities developed during the Area Plan process informed the draft purpose and need of this EIS. The Area Plan process analyzed several solutions (30) and narrowed the options down to three alternatives, including intersection and pedestrian improvements and larger, more complex transportation solutions that will be evaluated in the EIS. The alternatives evaluation process included developing screening criteria based on addressing the problems and opportunities and study goals, developing a full range of alternatives, and documenting the elimination of alternatives. The 2021 Area Plan may be viewed at the project website (kimballjunctioneis.udot.utah.gov).

Purpose and Need for the Proposed Action

The purpose of this project as identified by UDOT is to improve operations and travel time on SR-224 from the I-80 interchange through Olympic Parkway; improve safety by reducing queues on I-80 off-ramps; improve pedestrian and bicyclist mobility and accessibility throughout the study area; and maintain or improve transit travel times. The need for the project is based on future (2050) failing conditions at the SR-224 and the I-80, Ute Boulevard, and Olympic Parkway intersections create delay and unreliable travel times; off-ramp queues extending onto mainline I-80 resulting in unsafe travel conditions; and growing east-west active transportation demand across SR-224. Agencies and the public are invited to comment on the draft purpose and need statement and technical memorandum available on the project website (kimballjunctioneis.udot.utah.gov). The purpose and need statement and supporting documentation, including data and public input summary, will be available in the Draft EIS. The purpose and need statement might be revised based on comments received during the comment period on this NOI.

Preliminary Description of the Proposed Action and Alternatives the EIS Will Consider

The currently contemplated range of alternatives proposed to be considered in the EIS consists of the following: (1) taking no action; (2) capacity improvements to I-80 and SR-224 such as adding general-purpose or auxiliary lanes and interchange improvements; (3) modified accesses to and from I-80 and SR-224; (4) additional or modified road, bicycle and pedestrian crossings on I-80 and SR-224; (5) combinations of any of the above, and (6) other reasonable alternatives identified during the EIS process. Three alternatives identified in the Area Plan meet the range of alternatives listed above and include Alternative A: a split-diamond interchange with intersection improvements; Alternative B: an alternative that has grade-separated intersections with one-way frontage roads to the I-80 interchange; and Alternative C: an alternative that combines HOV-focused improvements. Additional information on the alternatives, as well as maps and figures illustrating the project location, are available for review on the project website noted in the ADDRESSES section. Alternatives that do not meet the project's purpose and need or that are otherwise not reasonable will not be carried forward for detailed consideration in the EIS. The alternatives to be retained will be finalized after UDOT considers the comments received during the comment period on this NOI. The alternatives might be revised based on UDOT's consideration of public comments. The concepts not retained will also be documented in the Draft EIS. Alternatives carried forward in the EIS process will be evaluated along with the No Action alternative. The No Action alternative assumes all transportation improvements identified in the current long-range transportation plan would be built except the interchange improvements proposed in this study.

Summary of Expected Impacts

The EIS will evaluate the expected social, economic, and environmental effects resulting from the implementing the action alternatives and the no action alternative. The following resources are the most sensitive resources in the project area as identified in the Area Plan and will be evaluated by UDOT in the EIS:

Water Quality and Water Resources including Wetlands and other Waters of the United States: Project alternatives could require placing fill in waters of the United States and impacts to wetlands considered to be jurisdictional. These impacts would require a permit from the U.S. Army Corps of Engineers (USACE) for the discharge of dredged or fill material into waters of the United States, including wetlands.

Section 4(f) Resources: Project alternatives might use section 4(f) recreation resources and eligible historic properties. Section 4(f) is in reference to the U.S. Department of Transportation Act of 1966.

Environmental Justice Communities: Project alternatives might impact communities eligible for consideration as environmental justice communities that are low-income and minority due to right-of-way requirements, increases in noise, or other environmental factors. Additional analysis and public involvement will be conducted during the NEPA process to assess if the potential action alternatives would result in any disproportionately high and adverse impacts on the low-income and minority communities.

Property Acquisitions: Project alternatives could require acquiring private properties and relocating the tenants or owners of the properties. UDOT will work closely with the impacted stakeholders and designers to reduce the number of acquisitions and relocations.

The EIS will evaluate the expected impacts of and benefits to the known resources listed above as well as the following resources: land use, social and community resources, traffic, economics, pedestrian and bicyclist considerations, air quality, noise, wildlife resources, floodplains, cultural resources, hazardous material sites, and visual resources. The level of review of the identified resources for the EIS will be commensurate with the anticipated effects on each resource from the proposed project and will be governed by the statutory or regulatory requirements protecting those resources.

The analyses and evaluations conducted for the EIS will identify the potential for effects; avoidance measures; whether the anticipated effects would be adverse; and mitigation measures for adverse effects. UDOT welcomes comments on the expected impacts to be analyzed in the Draft EIS during the NOI comment period.

Agencies, stakeholders, and the public are invited to comment on the expected resources and anticipated impacts. The environmental impact analysis will not begin until the purpose and need, range of alternatives, and impact categories are finalized based on the public comments on this NOI. UDOT might revise the identification of impacts as a result of considering public comments. The studies to identify the impacts, as well as the analyses of impacts from the retained alternatives, will be presented in the Draft EIS.

Anticipated Permits and Other Authorizations

The project might require a permit from the U.S. Army Corps of Engineers (USACE) under Section 404 of the Clean Water Act. Additional state or local permits that may be required include stream alteration permits (PGP-10) from the Utah Division of Water Rights, Clean Water Act section 401 Certification from the Utah Division of Water Quality, Clean Water Act Section 402 Utah Pollution Discharge Elimination System General Permit for Construction Activities from the Utah Division of Water Quality, floodplain development permits from local jurisdictions (cities or counties), and other construction related permits (such as Air Quality Approval Orders and Fugitive Dust Emission Control Plan from the Utah Division of Air Quality). A section 4(f) de minimis impact and/or section 106 affected properties would require concurrence from the official with jurisdiction.

Scoping and Public Review

Agency Coordination

A coordination plan is being prepared to define the agency and public participation procedures for the environmental review process. The plan will establish cooperating and participating agency roles and a review schedule and will be posted on the project website (kimballjunctioneis.udot.utah.gov). Cooperating agencies that have been preliminarily identified include the USACE and the U.S. Environmental Protection Agency.

Agency and Public Review

UDOT will initiate a scoping process in December 2022 to gather information and solicit input after this NOI is issued. To ensure that a full range of issues are addressed in the EIS and potential issues are identified, comments and suggestions are invited from all interested parties. During Scoping, UDOT requests comments and suggestions on the draft purpose and need, potential project alternatives and impacts, the draft alternatives screening methodology, and the identification of any relevant information, studies, or analyses of any kind concerning impacts to the quality of the human and natural environment. The purpose of this request is to bring relevant comments, information, and analyses to the attention of UDOT, as early in the process as possible, to enable the agency to make maximum use of this information in decision making.

A public scoping period will be held between December 27, 2022 and January 27, 2023. As part of the scoping process, UDOT will provide an opportunity for public and agency comments on the draft purpose and need statement and technical memorandum, and preliminary alternatives screening methodology. These documents will be available on the project website (kimballjunctioneis.udot.utah.gov) on December 27, 2022. Final versions of these documents, along with a scoping summary report, will be available on the project website when they are completed.

Public scoping meetings will be held in-person and virtually. An in-person public scoping meeting will be held on January 10, 2023 from 5:30 p.m. to 8:00 p.m. at Ecker Hill Middle School, 2465 Kilby Road, Park City, Utah. A virtual public scoping meeting will be held on January 11, 2023 from 6:00 p.m. to 7:30 p.m. via Zoom. To register for the virtual public meeting or to obtain information regarding the scoping meetings, please visit the project website.

Public involvement is a critical component of the project development process and will continue throughout the development of the EIS. All individuals and organizations expressing interest in the project will be able to participate in the process through various public outreach opportunities, and they can sign up to receive email announcements and notifications on the project website (kimballjunctioneis.udot.utah.gov). These opportunities include, but are not limited to, public meetings and hearing(s), the project website, and press releases. Public notice will be given regarding the time and place of all public meetings and hearing(s). A public scoping period and 30-day public comment period is planned between December 27, 2022 and January 27, 2023. Pursuant to 40 CFR 1501.9(d), during the scoping period, all interested parties are requested to provide comments on the draft purpose and need statement, the range of potential alternatives for the project, the preliminary alternatives screening methodology, and resources to be considered in the EIS, and to identify any relevant information, studies, or analyses relevant to the project. Written comments or questions should be directed to UDOT representatives at the mail or email addresses provided above.

Public hearings will be held during the course of the EIS, as described below. Generally, the locations, dates, and times for each public hearing will be publicized on the project website (kimballjunctioneis.udot.utah.gov) and in newspapers with local and regional circulation, including The Salt Lake Tribune, the Deseret News, the Park Record, and Townlift. Materials will be available at the meetings in English and Spanish, and oral and written comments will be solicited.

Public Hearing on the Draft EIS

Notice of availability of the Draft EIS for public and agency review will be published in the Federal Register and through other methods which will identify where interested parties can review a copy of the Draft EIS. A public hearing will be conducted by UDOT and announced a minimum of 15 days in advance of the scheduled hearing date. UDOT will provide information for the public hearing, including the location, date, and time for the meeting, through a variety of means including the project website (kimballjunctioneis.udot.utah.gov) and by newspaper advertisement.

Schedule for the Decision-Making Process

After this NOI is issued, UDOT will coordinate with the participating and cooperating agencies to develop study documentation and the Draft EIS.

The Draft EIS is anticipated to be issued in Winter 2023.

The combined Final EIS and Record of Decision is anticipated to be issued in the Fall of 2024, within 24 months of the publication of this NOI.

Any other federal permits, if necessary, will be obtained within 90 days after the Record of Decision is issued.

Request for Identification of Potential Alternatives, Information, and Analyses Relevant to the Proposed Action

To ensure that a full range of issues related to the project are addressed and all potential issues are identified, UDOT invites comments and suggestions from all interested parties. The project team requests comments and suggestions regarding potential alternatives and impacts and the identification of any relevant information, studies, or analyses of any kind concerning impacts affecting the quality of the human environment. Any information presented in this NOI, including the draft purpose and need statement, preliminary range of alternatives, and identification of impacts, might be revised after UDOT considers the comments. The purpose of this request is to bring relevant comments, information, and analyses to UDOT's attention, as early in the process as possible, to enable UDOT to make maximum use of this information in decision making. Comments may be submitted according to the instructions in the ADDRESSES section of this NOI.

(h) Contact Information

For more information, please visit the project website at kimballjunctioneis.udot.utah.gov. Information requests or comments can also be emailed to kimballjunctioneis@utah.gov.

UDOT: Carissa Watanabe, Environmental Program Manager, UDOT Environmental Services Division, 4501 South 2700 West, P.O. Box 148450, Salt Lake City, Utah 84114-8450; telephone: (503) 939-3798; email: cwatanabe@utah.gov.

(Catalog of Federal and Domestic Assistance Program Number 20.205, Highway Research, Planning and Construction. The regulations implementing Executive Order 12372 regarding intergovernmental consultation on federal programs and activities apply to this program.)

Dated: December 14, 2022.
Ivan Marrero,
Division Administrator, Federal Highway Administration, Salt Lake City, Utah.

[FR Doc. 2022-27728 Filed 12-20-22; 8:45 am]

BILLING CODE 4910-22-P